DEPARTMENT OF COMMERCE

Foreign-Trade Zones Board

[S-173-2018]

Foreign-Trade Zone 84—Houston, Texas; Application for Subzone; BAUER-Pileco Inc.; Conroe, Texas

An application has been submitted to the Foreign-Trade Zones Board (the Board) by the Port of Houston Authority, grantee of FTZ 84, requesting subzone status for the facility of BAUER-Pileco Inc. (BAUER-Pileco) located in Conroe, Texas. The application was submitted pursuant to the provisions of the Foreign-Trade Zones Act, as amended (19 U.S.C. 81a-81u), and the regulations of the Board (15 CFR part 400). It was formally docketed on October 19, 2018.

The proposed subzone (18.6 acres) is located at 680 Conroe Park West Drive in Conroe, Texas. At the proposed subzone, BAUER-Pileco would be able to conduct the production activity already authorized for the company for its existing facility in Conroe. No additional authorization for production activity has been requested at this time. The proposed subzone would be subject to the existing activation limit of FTZ 84.

In accordance with the Board's regulations, Camille Evans of the FTZ Staff is designated examiner to review the application and make recommendations to the Executive Secretary.

Public comment is invited from interested parties. Submissions shall be addressed to the Board's Executive Secretary at the address below. The closing period for their receipt is December 4, 2018. Rebuttal comments in response to material submitted during the foregoing period may be submitted during the subsequent 15-day period to December 19, 2018.

A copy of the application will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Camille Evans at Camille.Evans@trade.gov or (202) 482-2350.

Dated: October 19, 2018.
Andrew McGilvray,
Executive Secretary.

[FR Doc. 2018-23283 Filed 10-24-18; 8:45 am]

BILLING CODE 3510-DS-P